ENVIRONMENTAL PROTECTION AGENCY

[FRL OP-OFA-144]

Environmental Impact Statements; Notice of Availability

Responsible Agency: Office of Federal Activities, General Information 202-564-5632 or https://www.epa.gov/nepa.

Weekly receipt of Environmental Impact Statements (EIS)

Filed September 9, 2024 10 a.m. EST Through September 16, 2024 10 a.m. EST

Pursuant to 40 CFR 1506.9.

Notice

Section 309(a) of the Clean Air Act requires that EPA make public its comments on EISs issued by other Federal agencies. EPA's comment letters on EISs are available at: https://cdxapps.epa.gov/cdx-enepa-II/public/action/eis/search.

EIS No. 20240163, Draft Supplement, FHWA, FTA, WA, Interstate Bridge Replacement Program, Comment Period Ends: 11/18/2024, Contact: Thomas Goldstein, P.E. 503-316-2545.

EIS No. 20240164, Draft Supplement, USN, USCG, AL, Atlantic Fleet Training and Testing, Comment Period Ends: 11/21/2024, Contact: Todd Kraft 757-836-2943.

EIS No. 20240165, Draft, BLM, NV, Copper Rays Solar Project, Comment Period Ends: 12/19/2024, Contact: Jessica Headen 702-515-5206.

EIS No. 20240166, Final, BLM, NV, Rhyolite Ridge Lithium-Boron Mine Project, Review Period Ends: 10/21/2024, Contact: Scott Distel 775-861-6476.

EIS No. 20240167, Final, BLM, UT, Cross-Tie 500 kV Transmission Project, Review Period Ends: 10/31/2024, Contact: Amber Koski 801-320-8300.

EIS No. 20240168, Final, FTA, WA, West Seattle Link Extension, Review Period Ends: 10/21/2024, Contact: Erin Littauer 206-220-7521.

EIS No. 20240169, Draft, GSA, TX, Proposed Modernization of the Bridge of the Americas Land Port of Entry, El Paso, Texas, Comment Period Ends: 11/04/2024, Contact: Karla Carmichael 817-822-1372.

Amended Notice

EIS No. 20240118, Draft, Caltrans, CA, Albion River Bridge Project, Comment Period Ends: 10/09/2024, Contact: Liza Walker 707-502-9657.

Revision to FR Notice Published 07/05/2024; Extending the Comment Period from 09/09/2024 to 10/09/2024.

Dated: September 16, 2024.
Timothy Witman,
Acting Director, NEPA Compliance Division, Office of Federal Activities.

[FR Doc. 2024-21552 Filed 9-19-24; 8:45 am]

BILLING CODE 6560-50-P